COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add and service(s) to the Procurement List that will be furnished by nonprofit agencies employing persons who are blind or have other severe disabilities and delete product(s) previously furnished by such agencies.

DATES: Comments must be received on or before: August 06, 2023.

ADDRESSES: Committee for Purchase From People Who Are Blind or Severely Disabled, 355 E St. SW, Suite 325, Washington, DC 20024.

FOR FURTHER INFORMATION CONTACT: For further information or to submit comments contact: Michael R. Jurkowski, telephone: (703) 785-6404, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the service(s) listed below from nonprofit agencies employing persons who are blind or have other severe disabilities.

The following service(s) are proposed for addition to the Procurement List for production by the nonprofit agencies listed:

Service(s)

Service Type: Custodial Service

Mandatory for: NSWCDD, Dahlgren, VA and Pumpkin Neck Annex, King George, VA

Designated Source of Supply: ServiceSource, Inc., Oakton, VA

Contracting Activity: DEPT OF THE NAVY, NSWC DAHLGREN

Deletions

The following product(s) and service(s) are proposed for deletion from the Procurement List:

Product(s)

NSN(s)—Product Name(s):

7520-01-620-3317—Hole Punch, Paper, Light Duty, 3-Hole, Adjustable, 11 sheet capacity, Black Base, Metallic Handle

Designated Source of Supply: AbilityFirst, Pasadena, CA

Contracting Activity: GSA/FAS ADMIN SVCS ACQUISITION BR (2, NEW YORK, NY

NSN(s)—Product Name(s):

7520-01-451-9183—Pen, Ballpoint, Retractable, Essential LVX, Blue, Fine Point

7520-01-451-9177—Pen, Ballpoint, Retractable, Essential LVX, Red, Fine Point

Designated Source of Supply: Industries for the Blind and Visually Impaired, Inc., West Allis, WI

Contracting Activity: GSA/FAS ADMIN SVCS ACQUISITION BR (2, NEW YORK, NY

Service(s)

Service Type: Custodial and Related Services

Mandatory for: GSA PBS Region 5, Federal Building, 105 South Sixth Street, Mt. Vernon, IL

Designated Source of Supply: Jefferson County Comprehensive Services, Inc., Mt. Vernon, IL

Contracting Activity: PUBLIC BUILDINGS SERVICE, PBS R5

Michael R. Jurkowski,
Acting Director, Business Operations.

[FR Doc. 2023-14359 Filed 7-6-23; 8:45 am]

BILLING CODE 6353-01-P